DEPARTMENT OF DEFENSE

Department of the Army, Corps of Engineers

Intent To Prepare a Draft Environmental Impact Statement for the Proposed Flood Risk Management Project for the Souris River Basin, North Dakota

AGENCY: U.S. Army Corps of Engineers, DoD.

ACTION: Notice of intent.

SUMMARY: The St. Paul District, Army Corps of Engineers, in partnership with the Souris River Joint Water Resources Board (SRJB), is conducting a flood risk management feasibility study for the Souris River Basin within the continental United States. The feasibility study will include an Environmental Impact Statement and consider opportunities to reduce flood risk within Bonnineau, McHenry, Ward, and Renville counties, North Dakota. The study will evaluate several alternative measures, including, but not limited to: Levees and floodwalls, diversion channels, non-structural flood proofing, relocation of flood-prone structures, and flood storage.

FOR FURTHER INFORMATION CONTACT: Questions about the proposed action and Environmental Impact Statement may be directed to: U.S. Army Corps of Engineers, St. Paul District, ATTN: Mr. Terry J. Birkenstock, Deputy Chief, Regional Planning & Environment Division North, 180 Fifth Street East, Suite 700, St. Paul, MN 55101-1678; telephone: (651) 290-5264; email terry.birkenstock@usace.army.mil.

SUPPLEMENTARY INFORMATION: The Souris River (alternatively known as the Mouse River) is approximately 435 miles long. The river begins in the southeastern portion of the Canadian province of Saskatchewan, flows south and east through Renville, Ward, McHenry, and Bottineau counties, North Dakota, and then turns north before returning to Canada in southwest Manitoba. The river flows through the cities of Burlington, Minot, Sawyer, and Velva, North Dakota. Key features associated with the river include the Lake Darling Dam, the Upper Souris National Wildlife Refuge, and the J. Clark Salyer National Wildlife Refuge. The Des Lacs River is a major tributary that joins the Souris River at Burlington, North Dakota.

The purpose of this study is to collect and evaluate pertinent engineering, economic, social, and environmental information in order to assess the potential for a federal flood risk management project within the basin. The study objective is to define a feasible and implementable project to reduce flood risk which is relatively high within the basin. In June 2011, heavy rains in the upstream portions of the watershed exceeded the storage capacity of upstream reservoirs already full from the April snowmelt. Flows in excess of 26,900 cubic feet per second (cfs) overwhelmed the existing Federal flood risk management projects (designed to pass 5,000 cfs from Burlington to Minot) and emergency flood fighting efforts, causing over $690 million in damages to more than 4,700 structures.

Following the 2011 flood, a non-Federal local flood risk management study was initiated by the North Dakota State Water Commission in response to a request for assistance from the SRJB. The scope of the non-Federal study, identified as the Mouse River Enhanced Flood Protection Plan (MREFPP), differs from the Federal study and is primarily focused on flood protection specifically for the city of Minot. Because of its influence on an existing federal flood project, this non-federal effort has requested permission from the Corps of Engineers to pursue actions under 33 U.S.C. 408 (frequently referred to as Section 408). A separate Notice of Intent was published (FR Doc. 2015-17670 Filed 7-16-15) for an EIS associated with the Corps of Engineers' decision on the Section 408 request. However, this Notice of Intent involves an EIS with broader consideration of flood risk across the basin. Additional details on the local, non-federal flood MREFPP can be found at mouseriverplan.com.

This Souris River Basin Flood Risk Management Feasibility Study and its associated NEPA documentation will be prepared by the Corps. The Corps will act as the lead agency and coordinate with other agencies to discuss their participation in the NEPA process. The study will broadly evaluate several alternative measures including, but not limited to: levees and floodwalls along the river through towns, diversion channels, non-structural flood-proofing, relocation of flood-prone structures, and flood storage.

Significant resources and issues to be addressed in the draft Environmental Impact Statement will be determined through coordination with Federal agencies, State agencies, local governments, the general public, interested private organizations, and industry. Anyone who has an interest in participating in the development of the Draft Environmental Impact Statement is invited to contact the St. Paul District, Corps of Engineers.

To date, the following areas of discussion have been identified for inclusion in the DEIS:

1. Flood damage reduction.

2. Effects to Fish and wildlife.

3. Land-use Effects (effects on agricultural land).

4. Effects to Archaeological, cultural, and historic resources.

5. Social Effects.

6. Effects to Groundwater.

Additional areas of interest may be identified through the scoping process, which will include pubic and agency meetings. A notice of those meetings will be provided to interested parties and to local news media.

The Corps anticipates holding a series of scoping meetings sometime in October, 2016 in the City of Minot and surrounding communities. In general, the meetings will begin with an open house and be followed by a presentation and question and answer session.

An environmental review will be conducted under the NEPA of 1969 and other applicable laws and regulations. It is anticipated that the DEIS will be available for public review in the fall of 2017.

Dated: August 11, 2016.
Terry J. Birkenstock,
Deputy Chief, Regional Planning and Environment Division North.

[FR Doc. 2016-19738 Filed 8-17-16; 8:45 am]

BILLING CODE 3720-58-P